DEPARTMENT OF COMMERCE

Foreign-Trade Zones Board

[Docket 46-2003]

Pepsi-Cola Manufacturing International, Ltd.—Subzone 61J; Application for Expansion of Scope of Manufacturing Authority; Extension of Comment Period

The comment period for the application submitted by the Puerto Rico Exports Development Corporation (68 FR 54888, 9-19-2003), grantee of FTZ 61, on behalf of Pepsi-Cola Manufacturing International, Ltd. (PCMIL), operator of FTZ 61J, requesting an expansion of the scope of manufacturing authority to include additional finished products and manufacturing capacity under FTZ procedures at the PCMIL soft drink and juice beverage concentrate manufacturing plant in Cidra, Puerto Rico, has been extended to from the closing date of December 19, 2003, to January 23, 2004, to allow interested parties additional time in which to comment on the proposal.

Comments in writing are invited during this period. Submissions (original and three copies) shall be addressed to the Board's Executive Secretary at the following addresses:

1. Submissions via Express/Package Delivery Services: Office of the Executive Secretary, Foreign-Trade Zones Board, U.S. Department of Commerce, Franklin Court Building—Suite 4100W, 1099 14th Street, NW., Washington, DC 20005; or,

2. Submissions via the U.S. Postal Service: Office of the Executive Secretary, Foreign-Trade Zones Board, U.S. Department of Commerce, FCB-4100W, 1401 Constitution Avenue, NW., Washington, DC 20230.

Material submitted will be available for inspection at address No. 1 noted above.

Dated: December 16, 2003.
Dennis Puccinelli,
Executive Secretary.

[FR Doc. 03-31765 Filed 12-23-03; 8:45 am]

BILLING CODE 3510-DS-P